DEPARTMENT OF COMMERCE

National Oceanic and Atmospheric Administration

50 CFR Part 648

[Docket No. 0808251151-81155-01]

RIN 0648-AX18

Fisheries of the Northeastern United States; Northeast Multispecies Fishery; Nomenclature Change to Rename the “Haddock Rope Trawl” the “Ruhle Trawl”; Final Rule

AGENCY: National Marine Fisheries Service (NMFS), National Oceanic and Atmospheric Administration (NOAA), Commerce.

ACTION: Final rule; nomenclature change.

SUMMARY: NMFS changes the name of a previously approved trawl gear referred to as the “Haddock Rope trawl” to the “Ruhle Trawl.” The intent of this action is to recognize the effort of Captain Phil Ruhle, Sr., who was instrumental in the development of this gear.

DATES: September 9, 2008

ADDRESSES: Copies of the Technical Report “Bycatch Reduction in the Directed Haddock Bottom Trawl Fishery” and a diagram of the Ruhle Trawl may be obtained from NMFS at the following address: National Marine Fisheries Service, One Blackburn Drive, Gloucester, MA 01930; telephone (978) 281-9315.

FOR FURTHER INFORMATION CONTACT: Edward Stern, Fishery Management Specialist, (978) 281-9177, fax (978) 281-9135, e-mail edward.stern@NOAA.gov.

SUPPLEMENTARY INFORMATION: At the request of the New England Fishery Management Council, NMFS published a final rule on July 14, 2008 (73 FR 40186), with an effective date of August 13, 2008, that implemented new gear for use in the Regular B Days At Sea (DAS) Program and the Eastern U.S./Canada Haddock Special Access Program (SAP). The purpose of this new gear is to reduce discards under the Northeast (NE) Multispecies Fishery Management Plan (FMP). In the final rule, and in other documents relied on for the final rule, the new gear was referred to as the “Haddock Rope Trawl” or “Eliminator Trawl.” A detailed description of the need for, and use of, additional types of trawl gear, and a description of the review process used to evaluate the gear's performance, can be found in the preamble of the proposed rule (73 FR 29098), published on May 20, 2008.

In 2007, Captain Phil Ruhle, Sr., was recognized with David Beutel and Laura Scrobe from the University of Rhode Island, and fellow fishermen James O'Grady and Phil Ruhle, Jr., as the grand prize winners of the 2007 World Wildlife Fund's International Smart Gear Competition. The award credited Captain Ruhle and his team for designing the new trawl, then referred to as “The Eliminator.” The July 14, 2008, final rule approved this gear for limited use in Federal waters under the FMP. On July 23, 2008, Captain Phil Ruhle, Sr., perished when his fishing vessel, the F/V SEA BREEZE, capsized and sank in heavy seas off New Jersey. Renaming the new gear the Ruhle Trawl is to honor Captain Phil Ruhle, Sr., as a primary developer of this gear and an innovator in the fishing industry.

Classification

The Assistant Administrator for Fisheries, NOAA (AA) finds good cause pursuant to 5 U.S.C. 553(b)(B) to waive prior notice and the opportunity for public comment because it would be unnecessary. Because prior notice is not required, no Regulatory Flexibility Analysis (RFA) is required and one has not been prepared. The rule simply changes the name of the “Haddock Rope Trawl” to the “Ruhle Trawl”. It has no effect on the gear or the manner in which it is fished. This rule is not anticipated to cause confusion in the fishery, nor will it require significant remarking of existing gear. This rule will not impact other regulations. The AA further finds pursuant to 5 U.S.C. 553(d)(3) good cause to waive the thirty (30) day delayed effectiveness period for the reasons stated above. This nomenclature change is published pursuant to 50 CFR part 648 and has been determined to be not significant for purposes of Executive Order 12866.

Dated: September 3, 2008.
Samuel D. Rauch III,
Deputy Assistant Administrator For Regulatory Programs, National Marine Fisheries Service.

For the reasons set out in the preamble, NMFS amends 50 CFR part 648 as follows:

PART 648—FISHERIES OF THE NORTHEASTERN UNITED STATES

1. The authority citation for part 648 continues to read as follows:

Authority 16 U.S.C. 1801 et seq.

§§ 648.2, 648.14, and 648.85 [Amended]

2. In the table below, for each section in the left column, remove the name “haddock rope trawl” from wherever it appears throughout the section and add the name “Ruhle Trawl” indicated in the right column for the number of times indicated.

Section | Remove | Add | Frequency
§ 648.2 | haddock rope trawl | Ruhle Trawl | 1
§ 648.14 | haddock rope trawl | Ruhle Trawl | 1
§ 648.85 | haddock rope trawl | Ruhle Trawl | 8

3. Figure 1 to Part 648 is revised to read as follows:

BILLING CODE 3510-22-S

[FR Doc. E8-20924 Filed 9-8-08; 8:45 am]

BILLING CODE 3510-22-P